NATIONAL AERONAUTICS AND SPACE ADMINISTRATION

14 CFR Parts 1260 and 1274

RIN 2700-AE12

Removal of Procedures for Delegation of Administration of Grants and Cooperative Agreements

AGENCY: National Aeronautics and Space Administration.

ACTION: Proposed rule; correction.

SUMMARY: This document corrects the preamble to a proposed rule published in the Federal Register of November 14, 2013, regarding Procedures for Delegation of Administration of Grants and Cooperative Agreements. This correction provides the correct regulatory identification number (RIN) for the proposed rule.

FOR FURTHER INFORMATION CONTACT: Leigh Pomponio, 202-358-0592.

Correction

In proposed rule FR Doc. 2013-27232, beginning on page 68376 in the issue of November 14, 2013, make the following corrections in the RIN and Addresses sections:

• On page 68376 in the 1st column, remove the RIN 2700-AE11 and add in its place the RIN 2700-AE12.

• On page 68376 in the 2nd column, remove the RIN 2700-AE11 and add in its place the RIN 2700-AE12.

Nanette Jennings,
NASA Liaison Officer.

[FR Doc. 2013-30793 Filed 12-24-13; 8:45 am]

BILLING CODE 7510-13-P